DEPARTMENT OF THE INTERIOR

Fish and Wildlife Service

[FWS-R3-ES-2020-0136; FXES11140300000-201]

Draft Environmental Assessment and Proposed Habitat Conservation Plan; Receipt of an Application for an Incidental Take Permit, High Prairie Wind Energy Facility, Schuyler and Adair Counties, Missouri

AGENCY: Fish and Wildlife Service, Interior.

ACTION: Notice of availability; request for comment and information.

SUMMARY: We, the U.S. Fish and Wildlife Service (Service), have received an application from TG High Prairie, LLC (applicant) for an incidental take permit (ITP) under the Endangered Species Act (ESA), for its High Prairie Wind Energy Facility. If approved, the ITP would be for a 6-year period and would authorize the incidental take of covered species, including the endangered Indiana bat, threatened northern long-eared bat, and the little brown bat, currently under discretionary review. While the ITP is for 6 years, the wind energy project is scheduled to be operational for thirty years and intensive monitoring conducted during this permit term will inform the need for future avoidance or a new long-term ITP that will comply with a new NEPA analysis and habitat conservation plan (HCP). The applicant has prepared a HCP that describes the actions and measures that the applicant would implement to avoid, minimize, and mitigate incidental take of the covered species for the first 6 years. We also announce the availability of a draft environmental assessment, which has been prepared in response to the permit application in accordance with the requirements of the National Environmental Policy Act (NEPA). We request public comment on the application, which includes the applicant's proposed HCP, the Service's draft environmental assessment, prepared pursuant to NEPA and associated documents. We provide this notice to seek review and comment from the public and Federal, Tribal, State and local governments.

DATES: We will accept comments received or postmarked on or before December 31, 2020.

ADDRESSES:

Document availability: Electronic copies of the documents this notice announces, as well as public comments we receive, will be available online in Docket No. FWS-R3-ES-2020-0136 at http://www.regulations.gov.

Comment submission: In your comment, please specify whether your comment addresses the proposed HCP, draft EA, or any combination of the aforementioned documents, or other supporting documents. You may submit written comments by one of the following methods:

• Online: http://www.regulations.gov. Search for and submit comments on Docket No. FWS-R3-ES-2020-0136.

• By hard copy: Submit comments by U.S. mail to Public Comments Processing, Attn: Docket No. FWS-R3-ES-2020-0136; U.S. Fish and Wildlife Service; 5275 Leesburg Pike, MS: PRB/3W; Falls Church, VA 22041-3803.

FOR FURTHER INFORMATION CONTACT: Karen Herrington, Field Supervisor, Columbia Missouri Ecological Services Field Office, U.S. Fish and Wildlife Service, 101 Park DeVille Drive, Suite A, Columbia, MO 65203; telephone: 573-234-2132.

Individuals who are hearing impaired or speech impaired may call the Federal Relay Service at 1-800-877-8339 for TTY assistance.

SUPPLEMENTARY INFORMATION: We, the U.S. Fish and Wildlife Service (Service), have received an application from TG High Prairie LLC (applicant) for an incidental take permit (ITP) under the Endangered Species Act of 1973, as amended (ESA; 16 U.S.C. 1531 et seq.), for its High Prairie Wind Energy facility (facility). The facility is located in Schuyler and Adair Counties, Missouri, and consists of 163 2.2-megawatt (MW) turbines and 12 3.45-MW turbines. If approved, the ITP would be for a 6-year period and would authorize the incidental take of covered species, including the federally endangered Indiana bat, federally threatened northern long-eared bat, and the little brown bat (LBB), currently under discretionary review. The little brown bat is not federally protected, but is currently being evaluated for protection under the ESA. The applicant has chosen to include the LBB as a covered species, and as such, it will be treated as if it were currently listed under the ESA. The ITP, if issued, would authorize incidental take of the covered species that may occur as a result of the operation of 175 wind turbines over a six-year period. The applicant has prepared a habitat conservation plan (HCP) that describes the actions and measures that the applicant would implement to avoid, minimize, and mitigate incidental take of the covered species. We also announce the availability of a draft environmental assessment (DEA), which has been prepared in response to the permit application in accordance with the requirements of the National Environmental Policy Act (NEPA; 42 U.S.C. 4321 et seq.). We request public comment on the application and associated documents.

Background

Section 9 of the ESA and its implementing regulations prohibit the “take” of animal species listed as endangered or threatened. Take is defined under the ESA as to “harass, harm, pursue, hunt, shoot, wound, kill, trap, capture, or collect [listed animal species,] or to attempt to engage in any such conduct” (16 U.S.C. 1532). However, under section 10(a) of the ESA, we may issue permits to authorize incidental take of listed species. “Incidental take” is defined by the ESA as take that is incidental to, and not the purpose of, carrying out an otherwise lawful activity (16 U.S.C. 1539). Regulations governing incidental take permits for endangered and threatened species, respectively, are found in the Code of Federal Regulations at 50 CFR 17.22 and 50 CFR 17.32.

Applicant's Proposed Project

The applicant requests a 6-year ITP for turbine operations that will result in take of the federally endangered Indiana bat, federally threatened northern long-eared bat, and the little brown bat (covered species). The applicant determined that take is reasonably certain to occur incidental to operation of 175 previously constructed wind turbines in Schuyler and Adair Counties, Missouri, consisting of approximately 113,873 acres of private land. The proposed conservation strategy in the applicant's proposed HCP is designed to avoid, minimize, and mitigate the impacts of the covered activity on the covered species. The biological goals and objectives are to minimize potential take of covered species through onsite minimization measures and to provide habitat conservation measures to offset any impacts from operations of the project. The High Prairie Wind site includes multiple confirmed summer maternity roosts or colonies for the covered species and is more than 65 miles from the Sodalis Nature Preserve (largest known Indiana bat hibernaculum). The HCP provides onsite avoidance and minimization measures, which include turbine operational adjustments. The estimated level of take from the project is 72 Indiana bats, 96 little brown bats, and 18 northern long-eared bats over the 6-year permit term. To offset the impacts of the taking of covered species, the applicant proposes to protect 211.1 acres of known maternity colony habitat, in perpetuity, through the Service-approved Chariton Hills Conservation Bank located in Adair and Schuyler Counties.

National Environmental Policy Act

The issuance of an ITP is a Federal action that triggers the need for compliance with NEPA. We prepared a draft EA that analyzes the environmental impacts on the human environment resulting from three alternatives: A no-action alternative, the applicant's proposed action, and a more restrictive alternative consisting of feathering turbines at a rate of wind speed that results in less impacts to bats.

Next Steps

The Service will evaluate the permit application and the comments received to determine whether the application meets the requirements of section 10(a) of the ESA. We will also conduct an intra-Service consultation pursuant to section 7 of the ESA to evaluate the effects of the proposed take. After considering the above findings, we will determine whether the permit issuance criteria of section 10(a)(l)(B) of the ESA have been met. If met, the Service will issue the requested ITP to the applicant.

Request for Public Comments

The Service invites comments and suggestions from all interested parties on the proposed HCP, draft EA and supporting documents during a 30-day public comment period (see DATES). In particular, information and comments regarding the following topics are requested:

1. Whether adaptive management, monitoring and mitigation provisions in the Proposed Action alternative are sufficient;

2. Any threats to the Indiana bat, the northern long-eared bat and the little brown bat that may influence their populations over the life of the ITP that are not addressed in the proposed HCP or draft EA;

3. Any new information on white-nose syndrome effects on the Indiana bat, the northern long-eared bat and the little brown bat;

4. Any information that could help inform future operating parameters to avoid impacts to listed bats (beyond ceasing operations at night). A specific data set that would be useful would be one correlating all bat activity to temperature and weather parameters;

5. Any new information about colony grouping and the timing in which bats leave their summer areas (to further refine maternity colony adaptive management strategy dates);

6. Any specific parameters or suggestions to further refine population models (in the EA);

7. Whether or not the significance of the impact on various aspects of the human environment has been adequately analyzed; and

8. Any other information pertinent to evaluating the effects of the proposed action on the human environment, including those on the Indiana bat, the northern long-eared bat and the little brown bat.

Because this permit application was sufficiently complete prior to the effective date of the new NEPA regulations, we are exercising our discretion to conduct our NEPA analysis under the regulations in effect prior to September 14, 2020.

Availability of Public Comments

You may submit comments by one of the methods shown under ADDRESSES. We will post on http://regulations.gov all public comments and information received electronically or via hardcopy. All comments received, including names and addresses, will become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22) and the NEPA (42 U.S.C. 4321 et seq.) and its implementing regulations (40 CFR 1506.6 (2019); 43 CFR part 46).

Lori Nordstrom,
Assistant Regional Director, Ecological Services.

[FR Doc. 2020-26520 Filed 11-30-20; 8:45 am]

BILLING CODE 4333-15-P